DEPARTMENT OF THE INTERIOR

National Park Service

Adoption of Proposed Leasing Regulations/Guidelines for the El Portal Administrative Site, Yosemite National Park, Mariposa County, California; Notice of Extended Public Comment

SUMMARY: The National Park Service is responsible for management and administration of the El Portal Administrative Site. To facilitate such activities the Superintendent of Yosemite National Park, acting on behalf of the Secretary of the Interior, has been authorized to issue leases for Administrative Site lands, subject to terms, conditions, and guidelines appropriate for proper administration, protection, and development of the site. The proposed lease guidelines set forth eligibility qualifications for those seeking to acquire a lease, process to be used to establish lease fees, and circumstances under which the Superintendent may acquire unexpired leases.

Reference

Public Law 85-922 of September 2, 1958, Public Law 90-409 of July 21, 1968 and Public Law 99-542 of October 27, 1986, as codified in Title 16 United States Code Sections 47-1 through 47-6.

Comments

The original comment period ended April 25, 2000. The extended comment period shall end June 30, 2000. Requests for a copy of the proposed leasing program, or written comments, should be addressed to: Superintendent, Yosemite National Park, c/o Office of Special Park Uses, P.O. Box 700, El Portal, California, 95318. If individuals submitting comments request that their name or/and address be withheld from public disclosure, it will be honored to the extent allowable by law. Such requests must be stated prominently at the beginning of the comments. There also may be circumstances wherein the NPS will withhold a respondent's identity as allowable by law. As always: NPS will make available to public inspection all submissions from organizations or businesses and from persons identifying themselves as representatives or officials of organizations and businesses; and, anonymous comments may not be considered.

Dated: May 3, 2000.
Cynthina Ip,
Acting Regional Director, Pacific West Region.

[FR Doc. 00-11953 Filed 5-11-00; 8:45 am]

BILLING CODE 4310-70-P